DEPARTMENT OF ENERGY

Federal Energy Regulatory Commission

Combined Notice of Filings No 2

July 31, 2009.

Take notice that the Commission has received the following Natural Gas Pipeline Rate and Refund Report filings:

Docket Numbers: RP09-739-002.

Applicants: Iroquois Gas Transmission System, L.P.

Description: Iroquois Gas Transmission System submits Substitute Fifteenth Revised Sheet 120 to its FERC Gas Tariff, First Revised Volume 1.

Filed Date: 07/27/2009.

Accession Number: 20090728-0067.

Comment Date: 5 p.m. Eastern Time on Monday, August 10, 2009.

Docket Numbers: RP09-658-002.

Applicants: Columbia Gas Transmission, LLC.

Description: Columbia Gas Transmission, LLC submits Third Revised Sheet No. 385 et al. to FERC Gas Tariff, Third Revised Volume No 1, to be effective 8/28/09.

Filed Date: 07/28/2009.

Accession Number: 20090728-0076.

Comment Date: 5 p.m. Eastern Time on Monday, August 10, 2009.

Docket Numbers: RP09-679-001.

Applicants: Wyckoff Gas Storage Company, LLC.

Description: Wyckoff Gas Storage Company, LLC submits Sub. First Revised Sheet 31 et al. to its FERC Gas Tariff, Original Volume 1, to be effective 8/1/09.

Filed Date: 07/28/2009.

Accession Number: 20090729-0123.

Comment Date: 5 p.m. Eastern Time on Monday, August 10, 2009.

Docket Numbers: RP09-713-002.

Applicants: Columbia Gulf Transmission Company.

Description: Columbia Gulf Transmission Company submits Thirteenth Revised Sheet 286 et al. to FERC Gas Tariff, Second Revised Volume 1, to be effective 8/28/09.

Filed Date: 07/28/2009.

Accession Number: 20090728-0078.

Comment Date: 5 p.m. Eastern Time on Monday, August 10, 2009.

Docket Numbers: RP09-715-002.

Applicants: Hardy Storage Company, LLC.

Description: Hardy Storage Company, LLC submits Third Revised Sheet Nos. 186 and 187 to FERC Gas Tariff, Original Revised Volume No 1.

Filed Date: 07/28/2009.

Accession Number: 20090728-0077.

Comment Date: 5 p.m. Eastern Time on Monday, August 10, 2009.

Docket Numbers: RP09-548-001.

Applicants: Texas Gas Transmission, LLC.

Description: Texas Gas Transmission, LLC submits Substitute Second Revised Sheet No. 3 to FERC Gas Tariff, Third Revised Volume No. 1.

Filed Date: 07/29/2009.

Accession Number: 20090730-0131.

Comment Date: 5 p.m. Eastern Time on Monday, August 10, 2009.

Docket Numbers: RP09-550-001.

Applicants: Gulf South Pipeline Company, LP.

Description: Gulf South Pipeline Co, LP submits Original Sheet No. 4021 et al. to FERC Gas Tariff, Sixth Revised Volume No. 1.

Filed Date: 07/29/2009.

Accession Number: 20090730-0132.

Comment Date: 5 p.m. Eastern Time on Monday, August 10, 2009.

Docket Numbers: RP09-552-001.

Applicants: Gulf Crossing Pipeline Company, LLC.

Description: Gulf Crossing Pipeline Co, LLC submits Original Sheet No. 1307 et al. to FERC Gas Tariff, Original Volume No. 1.

Filed Date: 07/29/2009.

Accession Number: 20090730-0134.

Comment Date: 5 p.m. Eastern Time on Monday, August 10, 2009.

Docket Numbers: RP09-815-001.

Applicants: Enbridge Offshore Pipelines (UTOS) LLC.

Description: Enbridge Offshore Pipelines submits Second Revised Sheet 4 et al., to be effective 8/1/09.

Filed Date: 07/29/2009.

Accession Number: 20090729-0124.

Comment Date: 5 p.m. Eastern Time on Monday, August 10, 2009.

Docket Numbers: RP09-716-002.

Applicants: Central Kentucky Transmission Company.

Description: Central Kentucky Transmission Company submits Third Revised Sheet 254 et al. to its FERC Gas Tariff, Original Revised Volume 1 to be effective 8/31/09.

Filed Date: 07/30/2009.

Accession Number: 20090731-0087.

Comment Date: 5 p.m. Eastern Time on Tuesday, August 11, 2009.

Docket Numbers: RP09-718-002.

Applicants: Egan Hub Storage, LLC.

Description: Egan Hub Storage, LLC submits tariff sheets reflecting the change standards on 6/1/09.

Filed Date: 07/30/2009.

Accession Number: 20090731-0088.

Comment Date: 5 p.m. Eastern Time on Thursday, August 6, 2009.

Docket Numbers: RP09-720-001.

Applicants: Algonquin Gas Transmission Company.

Description: Algonquin Gas Transmission submits tariff sheets reflecting the changed standards on 6/1/09.

Filed Date: 07/30/2009.

Accession Number: 20090731-0089.

Comment Date: 5 p.m. Eastern Time on Thursday, August 6, 2009.

Docket Numbers: RP09-721-001.

Applicants: Texas Eastern Transmission, LP.

Description: Texas Eastern Transmission, LP submits tariff sheets reflecting the changed standards on 6/1/09.

Filed Date: 07/30/2009.

Accession Number: 20090731-0091.

Comment Date: 5 p.m. Eastern Time on Thursday, August 6, 2009.

Docket Numbers: RP09-736-001.

Applicants: East Tennessee Natural Gas, LLC.

Description: East Tennessee Natural Gas, LLC submits tariff sheets reflecting the changed standards on 6/1/09.

Filed Date: 07/30/2009.

Accession Number: 20090731-0090.

Comment Date: 5 p.m. Eastern Time on Thursday, August 6, 2009.

Any person desiring to protest this filing must file in accordance with Rule 211 of the Commission's Rules of Practice and Procedure (18 CFR 385.211). Protests to this filing will be considered by the Commission in determining the appropriate action to be taken, but will not serve to make protestants parties to the proceeding. Such protests must be filed on or before 5 p.m. Eastern time on the specified comment date. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to any subscribed docket(s). For assistance with any FERC Online service, please e-mail FERCOnlineSupport@ferc.gov, or call (866) 208-3676 (toll free). For TTY, call (202) 502-8659.

Nathaniel J. Davis, Sr.,
Deputy Secretary.

[FR Doc. E9-18920 Filed 8-6-09; 8:45 am]

BILLING CODE 6717-01-P